DEPARTMENT OF COMMERCE

International Trade Administration

[A-523-808]

Certain Steel Nails From the Sultanate of Oman: Preliminary Results and Rescission, in Part, of Antidumping Duty Administrative Review; 2022-2023

AGENCY: Enforcement and Compliance, International Trade Administration, Department of Commerce.

SUMMARY: The U.S. Department of Commerce (Commerce) is conducting an administrative review of the antidumping duty order on certain steel nails (steel nails) from the Sultanate of Oman (Oman). This review covers 18 exporters and producers from Oman. The period of review (POR) is July 1, 2022, through June 30, 2023. The sole mandatory respondent in this review is Oman Fasteners, LLC (Oman Fasteners). Commerce preliminarily determines that sales of subject merchandise have not been made below normal value (NV) by Oman Fasteners during the POR. We are rescinding this review, in part, with respect to one company for which all requests for review were withdrawn. We are also rescinding this review, in part, with respect to 16 companies which had no suspended entries. Interested parties are invited to comment on these preliminary results.

DATES: Applicable August 12, 2024.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On July 3, 2023, Commerce published in the Federal Register a notice of opportunity ¹ to request an administrative review of the antidumping duty (AD) Order on steel nails from Oman.² On September 11, 2023, in accordance with 19 CFR 351.221(c)(1)(i), Commerce published a notice of initiation of an administrative review of the Order.³

¹ See Antidumping or Countervailing Duty Order, Finding, or Suspended Investigation; Opportunity To Request Administrative Review and Join Annual Inquiry Service List, 88 FR 42693 (July 3, 2023).

² See Certain Steel Nails from the Republic of Korea, Malaysia, the Sultanate of Oman, Taiwan, and the Socialist Republic of Vietnam: Antidumping Duty Orders, 80 FR 39994 (July 13, 2015) (Order).

³ See Initiation of Antidumping and Countervailing Duty Administrative Reviews, 88 FR 62322 (September 11, 2023) (Initiation Notice).

On March 8, 2024, in accordance with section 751(a)(3)(A) of the Tariff Act of 1930, as amended (the Act) and 19 CFR 351.213(h)(2), Commerce extended the due date for the preliminary results by 120 days until July 30, 2024.⁴ For a complete description of the events that followed the initiation of this review, See the Preliminary Decision Memorandum.⁵ On July 22, 2024, Commerce tolled certain deadlines in this administrative proceeding by seven days.⁶ The deadline for the preliminary results is now August 6, 2024.

⁴ See Memorandum, “Extension of Deadline for Preliminary Results of Antidumping Duty Administrative Review,” dated March 8, 2024.

⁵ See Memorandum, “Decision Memorandum for the Preliminary Results of the Administrative Review of the Antidumping Duty Order on Certain Steel Nails from the Sultanate of Oman; 2022-2023,” dated concurrently with, and hereby adopted by, this notice (Preliminary Decision Memorandum).

⁶ See Memorandum, “Tolling of Deadlines for Antidumping and Countervailing Duty Proceedings,” dated July 22, 2024.

A list of the topics included in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The merchandise covered by the scope of this Order is steel nails from Oman. A complete description of the scope of the Order is contained in the Preliminary Decision Memorandum.⁷

⁷ Id.

Partial Rescission of Review

Pursuant to 19 CFR 351.213(d)(1), Commerce will rescind an administrative review, in whole or in part, if the party that requested the review withdraws its request within 90 days of the publication of the notice of initiation of the requested review. Because all requests for administrative review of Gulf Nails LLC (Gulf Nails) were withdrawn by interested parties within 90 days of the date of the publication of the Initiation Notice, Commerce is rescinding this review with respect to Gulf Nails, in accordance with 19 CFR 351.213(d)(1).

Pursuant to 19 CFR 351.213(d)(3), it is Commerce's practice to rescind an administrative review of an antidumping duty order when there are no reviewable entries of subject merchandise during the POR for which liquidation is suspended.⁸ Normally, upon completion of an administrative review, the suspended entries are liquidated at the antidumping duty assessment rate calculated for the review period.⁹ Therefore, for an administrative review to be conducted, there must be at least one reviewable, suspended entry that Commerce can instruct U.S. Customs and Border Protection (CBP) to liquidate at the antidumping duty assessment rate calculated for the review period.¹⁰ There were no entries of subject merchandise during the POR for 16 companies subject to this review.¹¹ As a result, on January 16, 2024, Commerce notified all interested parties of its intent to rescind this review, in part, with respect to these 16 companies.¹² The petitioner ¹³ commented on our Intent to Rescind, and we responded to the petitioner's comments in the accompanying Preliminary Decision Memorandum.¹⁴ The administrative review remains active with respect to one company, Oman Fasteners.

⁸ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

⁹ See 19 CFR 351.212(b)(1).

¹⁰ See 19 CFR 351.213(d)(3).

¹¹ See Appendix II for a list of these companies.

¹² See Memorandum, “Notice of Intent to Rescind Review, In Part,” dated January 16, 2024 (Intent to Rescind).

¹³ The petitioner is Mid Continent Steel & Wire, Inc.

¹⁴ See Preliminary Decision Memorandum at section IV, “Partial Rescission of Administrative Review.”

Methodology

Commerce is conducting this review in accordance with section 751(a)(1)(B) of the Act. We calculated export prices and NV in accordance with sections 772 and 773 of the Act, respectively. For a full description of the methodology underlying our preliminary results of review, See the Preliminary Decision Memorandum.

Preliminary Results of Review

We are assigning the following weighted-average dumping margin to the sole company listed below for the period July 1, 2022, through June 30, 2023:

Producer/exporter | Weighted-average dumping margin (percent)
Oman Fasteners, LLC | 0.00

Disclosure

Commerce intends to disclose its calculations for the preliminary results of review to parties to the proceeding within five days of any public announcement or, if there is no public announcement, within five days of the date of publication of this notice in the Federal Register in accordance with 19 CFR 351.224(b).

Public Comment

Pursuant to 19 CFR 351.309(c)(1)(ii), interested parties may submit case briefs to Commerce no later than 30 days after the date of publication of this notice in the Federal Register.¹⁵ Rebuttal briefs, limited to issues raised in the case briefs, may be filed not later than five days after the date for filing case briefs.¹⁶ Interested parties who submit case briefs or rebuttal briefs in this review must submit: (1) a table of contents listing each issue; and (2) a table of authorities.¹⁷

¹⁵ See 19 CFR 351.303 (for general filing requirements).

¹⁶ See 19 CFR 351.309(d); see also Administrative Protective Order, Service, and Other Procedures in Antidumping and Countervailing Duty Proceedings, 88 FR 67069, 67077 (September 29, 2023) (APO and Service Final Rule).

¹⁷ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁸ Further, we request that interested parties limit their executive summary of each issue to no more than 450 words, not including citations. We intend to use the public executive summaries as the basis of the comment summaries included in the issues and decision memorandum that will accompany the final results in this administrative review. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Service Final Rule, 88 FR at 67070.

Pursuant to 19 CFR 351.310(c), interested parties who wish to request a hearing must submit a written request to the Assistant Secretary for Enforcement and Compliance, filed electronically via ACCESS. Requests for a hearing should contain: (1) the requesting party's name, address, and telephone number; (2) the number of individuals associated with the requesting party that will attend the hearing and whether any of those individuals is a foreign national; and (3) a list of the issues that the party intends to discuss at the hearing. Issues raised in the hearing will be limited to those raised in the case and rebuttal briefs. An electronically filed hearing request must be received successfully in its entirety by Commerce's electronic records system, ACCESS, by 5:00 p.m. Eastern Time within 30 days after the date of publication of this notice in the Federal Register. If a hearing is requested, Commerce will announce the date and time of the hearing. Parties should confirm the date and time of the hearing two days before the scheduled hearing date.

Final Results of Review

Unless otherwise extended, Commerce intends to issue the final results of this administrative review, which will include the results of its analysis of issues raised in any briefs, within 120 days of publication of these preliminary results of review in the Federal Register, pursuant to section 751(a)(3)(A) of the Act.²⁰

²⁰ See section 751(a)(3)(A) of the Act; see also 19 CFR 351.213(h)(1).

Assessment Rates

In accordance with section 751(a)(2)(C) of the Act, the assessment of antidumping duties on entries of merchandise covered by this review shall be based on the final results of the review.²¹ Therefore, upon issuance of the final results of this review, Commerce will determine, and CBP shall assess, antidumping duties on all appropriate entries of subject merchandise covered by this review in accordance with 19 CFR 351.212(b)(1).

²¹ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

We will calculate importer-specific assessment rates for Oman Fasteners in accordance with 19 CFR 351.212(b)(1).²² Because Oman Fasteners reported entered values for its sales, we will calculate importer-specific ad valorem assessment rates for the company by dividing the total amount of dumping calculated for all reviewed U.S. sales to the importer by the total entered value of the merchandise sold to the importer.²³

²² We applied the assessment rate calculation method adopted in Antidumping Proceedings: Calculation of the Weighted-Average Dumping Margin and Assessment Rate in Certain Antidumping Proceedings: Final Modification, 77 FR 8101 (February 14, 2012).

²³ See 19 CFR 351.212(b)(1).

Where either Oman Fasteners' ad valorem weighted-average dumping margin is zero or de minimis, or an importer-specific ad valorem assessment rate is zero or de minimis,²⁴ we will instruct CBP to liquidate the appropriate entries without regard to antidumping duties.

²⁴ See 19 CFR 351.106(c)(2).

For the companies listed in Appendix II for which we are rescinding this review, we will instruct CBP to assess antidumping duties on all appropriate entries at a rate equal to the cash deposit of estimated antidumping duties required at the time of entry, or withdrawal from warehouse, in accordance with 19 CFR 351.212(c)(l)(i), not before 35 days after the publication date of these preliminary results.

Pursuant to a refinement to Commerce's assessment practice, where sales of subject merchandise that was produced or exported by an individually examined respondent were not reported in the U.S. sales data submitted by the respondent, but the merchandise was entered for consumption in the United States during the POR, Commerce will instruct CBP to liquidate any entries of such merchandise at the all-others rate (i.e., 9.10 percent) ²⁵ if there is no rate for the intermediate company(ies) involved in the transaction.²⁶

²⁵ See Order, 80 FR at 39996.

²⁶ For a full discussion of this practice, see Antidumping and Countervailing Duty Proceedings: Assessment of Antidumping Duties, 68 FR 23954 (May 6, 2003).

Cash Deposit Requirements

The following cash deposit requirements will be in effect for all shipments of subject merchandise entered, or withdrawn from warehouse, for consumption on or after the date of publication of the notice of the final results of this administrative review in the Federal Register, as provided for by section 751(a)(2)(C) of the Act: (1) the cash deposit rate for Oman Fasteners will be equal to the weighted-average dumping margin established for the company in the final results of this review, except if the weighted-average dumping margin is less than 0.50 percent, and, therefore, de minimis within the meaning of 19 CFR 351.106(c)(1), the cash deposit rate will be zero; (2) for previously investigated or reviewed companies that are not covered by this review, the cash deposit rate will continue to be the company's cash deposit rate from the most recently completed segment of the proceeding in which it was examined; (3) if the exporter is not covered by this review, and does not have a cash deposit rate from a completed segment of this proceeding, but the producer of the subject merchandise does have a cash deposit rate, then the cash deposit rate will be the producer's cash deposit rate from the most recently completed segment of the proceeding in which it was examined; and (4) the cash deposit rate for all other producers or exporters will continue to be 9.10 percent, the all-others rate established in the less-than-fair-value investigation.²⁷ These cash deposit requirements, when imposed, shall remain in effect until further notice.

²⁷ See Order, 80 FR 39996.

Notification to Importers

This notice serves as a preliminary reminder to importers of their responsibility under 19 CFR 351.402(f) to file a certificate regarding the reimbursement of antidumping duties prior to liquidation of the relevant entries during the review period. Failure to comply with this requirement could result in Commerce's presumption that reimbursement of antidumping duties occurred and the subsequent assessment of double antidumping duties.

Notification to Interested Parties

We are issuing and publishing these preliminary results of review in accordance with sections 751(a)(1) and 777(i)(1) of the Act and 19 CFR 351.213(h)(2) and 351.221(b)(4).

Dated: August 5, 2024.
Scot Fullerton,
Acting Deputy Assistant Secretary for Antidumping and Countervailing Duty Operations.

Appendix I

List of Topics Discussed in the Preliminary Decision Memorandum

I. Summary

II. Background

III. Scope of the Order

IV. Partial Rescission of Administrative Review

V. Discussion of the Methodology

VI. Currency Conversion

VII. Recommendation

Appendix II

List of Companies for Which We Are Rescinding the Review

1. Al Ansari Teqmark, LLC

2. Al Kiyumi Global LLC

3. Al Sarah Building Materials LLC

4. Astrotech Steels Private Ltd.

5. Buraimi Iron & Steel, LLC

6. CL Synergy (Pvt) Ltd.

7. Diamond Foil Trading LLC

8. Geekay Wires Ltd.

9. Gulf Nails, LLC

10. Gulf Nails Manufacturing, LLC

11. Gulf Steel Manufacturers, LLC

12. Modern Factory for Metal Products, LLC

13. Muscat Industrial Company, LLC

14. Muscat Nails Factory Golden Asset Trade, LLC

15. Oman Ocean Trading L.L.C.

16. Trinity Steel Pvt. Ltd.

17. WWL Indian Private Ltd.

[FR Doc. 2024-17912 Filed 8-9-24; 8:45 am]

BILLING CODE 3510-DS-P